DEPARTMENT OF HEALTH AND HUMAN SERVICES

Centers for Disease Control and Prevention

[30DAY-06-01]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7090. Send written comments to CDC, Desk Officer; Human Resources and Housing Branch, New Executive Office Building, Room 10235; Washington, DC 20503. Written comments should be received within 30 days of this notice.

Proposed Project

Jail STD Prevalence Monitoring System—New—National Center for HIV, STD, and TB Prevention (NCHSTP)

Proposes a 3-year clearance for data collection of the standardized record layout for the Jail STD Prevalence Monitoring System. This system consists of test data compiled for persons entering corrections facilities. The standard data elements were created in response to the need to systematically assess morbidity in persons entering corrections facilities who are at high risk for STDs and who often do not seek medical care in mainstream medical settings.

Use of these standard data elements will improve surveillance of STDs by allowing for systematic assessment of a high risk population, taking advantage of already computerized data. States that compile data from corrections facilities are encouraged to participate in the system. The estimated annualized burden is 1248 hours.

Respondents | Number of respondents | Average Number of forms/respondent | Number of responses/ respondent | Average burden/response (in hrs.)
State/local health departments | 65 | 16 | 1 | 1.2

Dated: October 30, 2000.
Kathy Cahill,
Associate Director for Policy, Planning and Evaluation, Centers for Disease Control and Prevention (CDC).

[FR Doc. 00-28436 Filed 11-03-00; 8:45 am]

BILLING CODE 4163-18-P